DEPARTMENT OF EDUCATION

List of Correspondence From April 1, 2014 Through June 30, 2014 and July 1, 2014 Through September 30, 2014

AGENCY: Office of Special Education and Rehabilitative Services, Department of Education.

ACTION: Notice.

SUMMARY: The Secretary is publishing the following list of correspondence from the U.S. Department of Education (Department) to individuals during the second and third quarters of 2014. The correspondence describes the Department's interpretations of the Individuals with Disabilities Education Act (IDEA) or the regulations that implement the IDEA. This list and the letters or other documents described in this list, with personally identifiable information redacted, as appropriate, can be found at: www2.ed.gov/policy/speced/guid/idea/index.html.

FOR FURTHER INFORMATION CONTACT: Jessica Spataro or Mary Louise Dirrigl. Telephone: (202) 245-7605.

If you use a telecommunications device for the deaf (TDD) or a text telephone (TTY), you can call the Federal Relay Service (FRS), toll free, at 1-800-877-8339.

Individuals with disabilities can obtain a copy of this list and the letters or other documents described in this list in an accessible format (e.g., braille, large print, audiotape, or compact disc) by contacting Jessica Spataro or Mary Louise Dirrigl at (202) 245-7605.

SUPPLEMENTARY INFORMATION: The following list identifies correspondence from the Department issued from April 1, 2014 through June 30, 2014 and July 1, 2014 through September 30, 2014. Under section 607(f) of the IDEA, the Secretary is required to publish this list quarterly in the Federal Register. The list includes those letters that contain interpretations of the requirements of the IDEA and its implementing regulations, as well as letters and other documents that the Department believes will assist the public in understanding the requirements of the law. The list identifies the date and topic of each letter and provides summary information, as appropriate. To protect the privacy interests of the individual or individuals involved, personally identifiable information has been redacted, as appropriate.

Part B—Assistance for Education of All Children With Disabilities

Section 611—Authorization; Allotment; Use of Funds; Authorization of Appropriations; and Section 619—Preschool Grants

Topic Addressed: Subgrants to Local Educational Agencies

○ Letter dated June 11, 2014, to Chief State School Officers, providing guidance on how recent changes to the National School Lunch Program could affect the manner in which State educational agencies allocate Part B of IDEA funds to local educational agencies (LEAs) based on their relative numbers of children living in poverty.

Section 612—State Eligibility

Topic Addressed: Children in Private Schools

○ Letter dated September 29, 2014, to Teach NYS President Sam Sutton and consultant David Rubel, regarding whether certain inclusive models could be used in the delivery of special education and related services to children with disabilities enrolled by their parents in private schools.

Section 615—Procedural Safeguards

Topic Addressed: Impartial Due Process Hearings

○ Letter dated June 2, 2014, to Pennsylvania Attorney Mark W. Voigt, regarding a State's timeline for an LEA to implement a final due process hearing decision.

Part C—Infants and Toddlers With Disabilities

Section 640—Payor of Last Resort

Topic Addressed: System of Payments

○ Letter dated July 10, 2014, to Texas Department of Assistive and Rehabilitative Services Part C Coordinator Kim Wedel, clarifying how the system of payment requirements can be implemented while using a parent's or child's public and private insurance or benefits as a funding source for services under Part C of IDEA.

Other Letters That Do Not Interpret Idea But May Be of Interest to Readers

○ Dear Colleague Letter from the Office for Civil Rights dated May 14, 2014, regarding the applicability to public charter schools of Federal civil rights laws, regulations, and guidance.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: July 15, 2015.
Michael K. Yudin,
Assistant Secretary for Special Education and Rehabilitative Services.

[FR Doc. 2015-17766 Filed 7-17-15; 8:45 am]

BILLING CODE 4000-01-P